DEPARTMENT OF JUSTICE

[OMB Number 1110-0008]

Agency Information Collection Activities; Proposed eCollection eComments Requested; Extension of a Previously Approved Collection; Monthly Return of Arson Offenses Known to Law Enforcement

AGENCY: Federal Bureau of Investigation, Department of Justice.

ACTION: 60-Day notice.

SUMMARY: The Federal Bureau of Investigation (FBI), Criminal Justice Information Services Division, Department of Justice (DOJ), will be submitting the following information collection request to the Office of Management and Budget (OMB) for review and approval in accordance with the Paperwork Reduction Act of 1995.

DATES: Comments are encouraged and will be accepted for 60 days until November 14, 2023.

FOR FURTHER INFORMATION CONTACT: If you have additional comments especially on the estimated public burden or associated response time, suggestions, or need a copy of the proposed information collection instrument with instructions or additional information, please contact Edward L. Abraham, Crime and Law Enforcement Statistics Unit Chief, FBI, CJIS Division, Module D-1, 1000 Custer Hollow Road, Clarksburg, West Virginia 26306; telephone number: 304-625-4830 or email: elabraham@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Under 34 United States Code 41303, Uniform Federal Crime Reporting Act of 1988; the Anti-Arson Act of 1982; and FBI, General Functions, 28 Code of Federal Regulations section 0.85(f); this collection requests the number of reported arson offenses from federal, state, local, tribal, and territorial LEAs in order for the FBI's Uniform Crime Reporting (UCR) Program to serve as the national clearinghouse for the collection and dissemination of arson data and to publish these statistics.

Overview of This Information Collection

1. Type of Information Collection: Extension of a previously approved collection.

2. The Title of the Form/Collection: Monthly Return of Arson Offenses Known to Law Enforcement.

3. The agency form number, if any, and the applicable component of the Department sponsoring the collection: The form number is 1-725. The applicable component within DOJ is the CJIS Division, FBI.

4. Affected public who will be asked or required to respond, as well as the obligation to respond: Affected Public State, local and tribal governments, Federal Government. The obligation to respond is mandatory per 28 Code of Federal Regulations 0.85(f).

5. An estimate of the total number of respondents and the amount of time estimated for an average respondent to respond: The estimated number of LEAs submitting arson data to the UCR Program monthly is 5,200. The estimated time it takes for an average respondent to respond is 9 minutes.

6. An estimate of the total annual burden (in hours) associated with the collection: Annually, the estimated 5,200 LEAs submit an estimated 62,400 responses (5,200 LEAs × 12 months = 62,400 responses). Therefore, the estimated annual public burden is 9,360 hours. (62,400 annual responses × 9 minutes per response]/60 minutes per hour = 9,360 total annual hours)

7. An estimate of the total annual cost burden associated with the collection, if applicable: $0.

Total Burden Hours
Activity | Number of respondents | Frequency | Total annual responses | Time per response (min) | Total annual burden (hours)
1-725 | 5,200 | 12 | 62,400 | 9 | 9,360
Total | 5,200 |  | 62,400 |  | 9,360

If additional information is required contact: Darwin Arceo, Department Clearance Officer, United States Department of Justice, Justice Management Division, Policy and Planning Staff, Two Constitution Square, 145 N Street NE, 4W-218, Washington, DC.

Dated: August 28, 2023.
Darwin Arceo,
Department Clearance Officer for PRA, U.S. Department of Justice.

[FR Doc. 2023-19944 Filed 9-14-23; 8:45 am]

BILLING CODE 4410-02-P